DEPARTMENT OF AGRICULTURE

Natural Resources Conservation Service

Notice of Intent To Request Comments on a Currently Approved Information Collection.

AGENCY: Natural Resources Conservation Service, USDA.

ACTION: Notice and request for comments.

SUMMARY: This notice announces the intention of the Natural Resources Conservation Service (NRCS) to request comments on a currently approved information collection for which approval will expire, 0578-0030, Emergency Watershed Protection Program.

Public Participation: The NRCS invites full public participation to promote open communication and better decision-making. All persons and organizations that have an interest in the Emergency Watershed Protection (EWP) Program are urged to provide comments.

Scoping Process: Public participation is requested throughout the scoping process. The NRCS is soliciting comment the public indicating what issues and impacts the public believes should be encompassed within the scope of the EWP Program. Comments are invited on (a) Whether the proposed collection of information is necessary for the proper performance of the functions of the agency, including whether the information will have practical utility, (b) The accuracy of the agency's estimate of burden of the proposed collection of information, including the validity of the methodology and assumptions used, (c) Ways to enhance the quality, utility, and clarity of the information to be collected, and (d) Ways to minimize the burden of the collection of information on those who are to respond, such as through the use of appropriate automated, electronic, mechanical, or other technologic collection techniques or other forms of information technology.

Date Scoping Comments Are Due: Comments on this notice must be received by January 18, 2008 to ensure consideration. Comments may be sent to Phyllis I. Watkins, Agency OMB Clearance Officer, U.S. Department of Agriculture, Natural Resources Conservation Service, 5601 Sunnyside Avenue, Mailstop 5460, Beltsville, MD 20705-5000; (301) 504-2170; phyllis.i.watkins@wdc.usda.gov.

Paperwork Reduction Act

In accordance with the Paperwork Reduction Act of 1995 (Public Law 104-13), and the Office of Management and Budget (OMB) regulations at 5 CFR part 1320 (60 FR 44978, August 29, 1995).

Government Paperwork Elimination Act

NRCS is committed to compliance with the Government Paperwork Elimination Act (GPEA) and the Freedom to E-File Act, which require government agencies in general, and NRCS in particular, to provide the option of submitting information or transacting business electronically to the maximum extent possible.

FOR FURTHER INFORMATION CONTACT: Questions and comments should be directed to Phyllis I. Watkins, Agency Office of Management and Budget Clearance Officer, USDA, Natural Resources Conservation Service, 5602 Sunnyside Avenue, Mailstop 5460, Beltsville, Maryland 20705-5000; telephone: (301) 504-2170.

SUPPLEMENTARY INFORMATION:

Title: Emergency Watershed Protection Program.

OMB Number: 0578-0030.

Expiration Date of Approval: July 31, 2008.

Type of Request: To request comments on a currently approved collection for which approval will expire.

Abstract: The primary objective of the Natural Resources Conservation Service (NRCS) is to work in partnership with the American people and the farming and ranching community to conserve and sustain our natural resources. The purpose of Emergency Watershed Protection Program (EWP) information collection is to provide EWP assistance to sponsors to undertake emergency measures to retard runoff and prevent soil erosion to safeguard lives and property from floods, drought, and the products of erosion on any watershed whenever fire, flood, or other natural disaster is causing or has caused a sudden impairment of that watershed.

The sponsor's request is submitted formally as a letter (now the Appendix to the NRCS-PDM-20A) to the NRCS State Conservationist for consideration. The NRCS-PDM-20, Damage Survey Report (DSR), is the agency decision-making document that includes the economic, social, and environmental evaluation and the engineer's cost estimate.

This information collection allows the responsible Federal official to make EWP Program eligibility determinations and provide Federal cost-share contribution to complete the measures. This request is necessary to implement the EWP Program for which NRCS has statutory authority.

The table below lists the forms in this collection, the uses for each document, and the applicable programs. These forms constitute this information collection and reflect the documents used by EWP sponsors to request participation in the recovery program.

Form No. | Form title | OMB No. | Program
NRCS-PDM-20 | Damage Survey Report | 0578-0030 | EWP Recovery.
NRCS-PDM-20A | Appendix to the DSR, Request for Participation in the Program | 0578-0030 | EWP Recovery.

NRCS will ask OMB for 3-year approval within 60 days of submitting the request.

Estimate of Burden: Public reporting burden for this collection of information is estimated to average 3.5 hours or 117 minutes per response.

Respondents: State government or State agency or a legal subdivision thereof, local unit of government, or any Native American Tribe or Tribal organization as defined in section 4 of the Indian Self-Determination and Education Assistance Act (25 U.S.C. 450b), with a legal interest in or responsibility for the values threatened by a watershed emergency. All of the foregoing entities must be capable of obtaining necessary land rights and capable of carrying out any operation and maintenance responsibilities that may be required.

Estimated Number of Respondents: 400.

Estimated Total Annual Burden on Respondents: 5,900 hours.

All responses to this notice will be summarized and included in the request for OMB approval. All comments will also become a matter of public record.

Signed at Washington, DC on October 3, 2007.
Arlen L. Lancaster,
Chief.

BILLING CODE 3410-16-P

[FR Doc. 07-5747 Filed 11-16-07; 8:45 am]

BILLING CODE 3410-16-C